NUCLEAR REGULATORY COMMISSION

[Docket No. 50-615; NRC-2024-0146]

Tennessee Valley Authority; Clinch River Nuclear Site, Unit 1; Notice of Intent To Prepare a Supplement to Environmental Impact Statement

AGENCY: Nuclear Regulatory Commission.

ACTION: Notice.

SUMMARY: The U.S. Nuclear Regulatory Commission (NRC) is providing public notice that it will prepare a supplement to the Early Site Permit (ESP) Environmental Impact Statement (EIS) to evaluate the environmental impacts for a construction permit (CP) requested by Tennessee Valley Authority (TVA) for the Clinch River Nuclear (CRN) Site, Unit 1.

DATES: July 18, 2025.

ADDRESSES: Please refer to Docket ID NRC-2024-0146 when contacting the NRC about the availability of information regarding this document. You may obtain publicly available information related to this document using any of the following methods:

• Federal Rulemaking Website: Go to https://regulations.gov and search for Docket ID NRC-2024-0146. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the CP application, including the environmental report for the CRN Site, Unit 1, is available for public review at the Oak Ridge Public Library, 1401 Oak Ridge Turnpike, Oak Ridge, TN 37830.

FOR FURTHER INFORMATION CONTACT: Madelyn Nagel, Office of Nuclear Material Safety and Safeguards, U.S. Nuclear Regulatory Commission, Washington, DC 20555-0001; telephone: 301-415-0371; email: Madelyn.Nagel@nrc.gov.

SUPPLEMENTARY INFORMATION:

I. Discussion

By letters dated April 28, 2025 (ADAMS Accession No. ML25118A209) and May 20, 2025 (ADAMS Accession No. ML25140A063), TVA submitted to the NRC, pursuant to part 50 of title 10 of the Code of Federal Regulations (10 CFR), “Domestic Licensing of Production and Utilization Facilities,” an application for a CP to construct a GE Hitachi BWRX-300 at the CRN Site, to be built in Roane County, Tennessee. The CP application references the ESP for the CRN Site, Unit 1, which was issued in 2019 (NUREG-2226, ADAMS Package Accession No. ML19087A266). Submittal of the application initiates the NRC's proposed action of determining whether to grant the CP. A notice of receipt and availability of the complete application was published in the Federal Register on June 10, 2025 (90 FR 24425). By letter dated June 12, 2025 (ADAMS Accession No. ML25156A058), NRC informed TVA of its acceptance and docketing of Part 1 of the application. A notice of acceptance for docketing of the complete application and opportunity to request a hearing was published in the Federal Register on July 15, 2025 (90 FR 31709). The purpose of this notice is to inform the public that the NRC will prepare a supplement to the ESP EIS to evaluate the environmental impacts for the proposed issuance of the CP, as required by 10 CFR 51.92(b). The NRC staff will not conduct scoping for the supplement to the EIS prepared for the ESP at the CRN Site, Unit 1. This is in accordance with 10 CFR 51.92(d), which states that a scoping process for a supplement to an EIS is not required.

The regulations in 36 CFR 800.8(c), “Coordination with The National Environmental Policy Act,” allow agencies to use their National Environmental Policy Act of 1969 (42 U.S.C. 4321, et seq.) process to fulfill the requirements of Section 106 of the National Historic Preservation Act of 1966 (54 U.S.C. 300101, et seq.) (NHPA). Therefore, pursuant to 36 CFR 800.8(c), the NRC staff intends to use its process and the documentation required for the preparation of the supplement to the ESP EIS for the proposed action to comply with Section 106 of the NHPA in lieu of the procedures set forth in 36 CFR 800.3 through 800.6.

The NRC staff will also prepare and issue for comment, the draft supplement to the EIS, which will be the subject of a separate Federal Register notice.

Dated: July 15, 2025.
For the Nuclear Regulatory Commission.
Jacob Zimmerman,
Acting Director, Division of Rulemaking, Environmental, and Financial Support, Office of Nuclear Material Safety and Safeguards.

[FR Doc. 2025-13465 Filed 7-17-25; 8:45 am]

BILLING CODE 7590-01-P